ADMINISTRATIVE CONFERENCE OF THE UNITED STATES

Notice of Public Meeting of the Assembly of the Administrative Conference of the United States

AGENCY: Administrative Conference of the United States

ACTION: Notice.

SUMMARY: The Assembly of the Administrative Conference of the United States will meet during a one-day hybrid plenary session to consider four proposed recommendations and to conduct other business. Written comments may be submitted in advance, and the meeting will be accessible to the public.

DATES: The meeting will take place on Thursday, June 13, 2024, from 9 a.m.-5 p.m. The meeting may adjourn early if all business is concluded prior to the stated end time.

ADDRESSES: For those attending in person, the meeting will be held at The George Washington University Law School in the Jacob Burns Moot Court Room, 2000 H Street NW, Washington, DC 20052. There will be a virtual attendance option. Information on how the public can access the meeting will be available on the agency's website prior to the meeting at https://www.acus.gov/event/81st-plenary-session.

FOR FURTHER INFORMATION CONTACT: Shawne McGibbon, General Counsel (Designated Federal Officer), Administrative Conference of the United States, Suite 706 South, 1120 20th Street NW, Washington, DC 20036; telephone 202-480-2080; email smcgibbon@acus.gov.

SUPPLEMENTARY INFORMATION: The Administrative Conference of the United States makes recommendations to Federal agencies, the President, Congress, and the Judicial Conference of the United States regarding the improvement of administrative procedures (5 U.S.C. 594). The membership of the Conference, when meeting in plenary session, constitutes the Assembly of the Conference (5 U.S.C. 595).

Agenda: Four proposed recommendations will be considered by the Assembly. In addition, there will be updates on past, current, and pending Conference initiatives, as well as other business. Summaries of the recommendations appear below:

Choice of Forum for Judicial Review of Agency Rules. This proposed recommendation identifies a principle that should guide Congress in choosing the appropriate forum for judicial review of agency rules. It also recommends that Congress provide that district courts apply district-wide assignment to certain civil actions seeking to bar or mandate enforcement of federal agency rules or policies and identifies common statutory ambiguities that Congress should avoid in drafting new or amending existing recommendations.

Individualized Guidance. This proposed recommendation examines best practices to promote fairness, accuracy, and efficiency in agency processes for providing written guidance in response to requests for advice from members of the public. It addresses processes for members of the public to request individualized guidance from agencies; agency practices for drafting responses to such requests, including the personnel involved and mechanisms to ensure accuracy and consistency; the public availability of individualized guidance documents; and policies regarding whether and when agencies should allow members of the public to rely on individualized guidance.

Participation of Senate-Confirmed Officials in Administrative Adjudication. This proposed recommendation examines, as a legal and practical matter, whether, when, how, and how often agency heads and other Senate-confirmed officials participate in the adjudication of cases across a range of federal administrative programs. For agencies that have decided to provide or are considering providing for participation by Senate-confirmed officials in the adjudication of individual cases, the proposed recommendation identifies principles and practicalities that agencies should consider in structuring such participation and provides best practices for developing and communicating relevant policies regarding such participation. This proposed recommendation does not address whether agencies should, for constitutional or other reasons, provide for participation by Senate-confirmed officials in specific programs.

Congressional Constituent Service Inquiries. This proposed recommendation examines how federal agencies receive, process, and respond to congressional inquiries made on behalf of constituents who need assistance accessing federal programs or navigating adjudicative and other similar administrative processes. It identifies best practices for agencies to promote quality, efficiency, and timeliness in their procedures for responding to such inquiries. Among other topics, the proposed recommendation addresses the scope, content, internal dissemination, and public availability of these procedures where adopted.

Additional information about the proposals and the agenda, as well as any changes or updates to the same, can be found at the 81st Plenary Session page on the Conference's website prior to the start of the meeting at: https://www.acus.gov/event/81st-plenary-session.

Public Participation: The Conference welcomes the virtual attendance of the public at the meeting. Members of the public wishing to view the meeting are asked to RSVP online at the 81st Plenary Session web page shown above no later than two days before the meeting to ensure adequate bandwidth and accessibility. A link to a livestream of the meeting will be posted the morning of the meeting on the 81st Plenary Session web page. A video recording of the meeting will be available on the Conference's website shortly after the conclusion of the event at https://youtube.com/channel/UC1Gu44Jq1U7XsGdC9Tfl_zA.

Written Comments: Persons who wish to comment on any of the proposed recommendations may do so by submitting a written statement either by email to info@acus.gov with “June 2024 Plenary Session Comments” in the subject line of the email, or by U.S. Mail addressed to: June 2024 Plenary Session Comments, Administrative Conference of the United States, Suite 706 South, 1120 20th Street NW, Washington, DC 20036. Written submissions must be received no later than 10:00 a.m. (EDT), Friday, June 7, 2024, to ensure consideration by the Assembly.

(Authority: 5 U.S.C. 595)

Dated: May 16, 2024.
Shawne McGibbon,
General Counsel.

[FR Doc. 2024-11179 Filed 5-21-24; 8:45 am]

BILLING CODE 6110-01-P